COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were previously furnished by nonprofit agencies employing persons who are blind or have other severe disabilities.

DATES: Date deleted from the Procurement List: July 8, 2018.

ADDRESSES: Committee for Purchase From People Who Are Blind or Severely Disabled, 1401 S Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 5/4/2018 (83 FR 87), the Committee for Purchase From People Who Are Blind or Severely Disabled published notice of proposed deletions from the Procurement List.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Products

NSN(s)—Product Name(s):

8415-00-NSH-0687—Pants, Level 1, PCU, Army, Brown, M

8415-01-519-7444—Pants, Level 1, PCU, Army, Brown, M

Mandatory Source of Supply: Southeastern Kentucky Rehabilitation Industries, Inc., Corbin, KY

Contracting Activity: W6QK ACC-APG NATICK, NATICK, MA

Services

Service Type: Switchboard Operation Service

Mandatory for: 4th Communication Squadron: 1695 Wright Brothers Avenue, Seymour Johnson AFB, NC

Mandatory Source of Supply: Coastal Enterprises of Jacksonville, Inc., Jacksonville, NC

Contracting Activity: Dept. of the Air Force, FA4809 4TH CONS SQDN CC

Service Type: Janitorial/Custodial Service

Mandatory for: Indiana Air National Guard, 181st Fighter Wing: Hulman Regional Airport, 800 South Petercheff, Terre Haute, IN

Mandatory Source of Supply: Child-Adult Resource Services, Inc., Rockville, IN

Contracting Activity: Dept. of the Air Force, FA7014 AFDW PK

Service Type: Custodial Service

Mandatory for: David W. Dyer Federal Building-Courthouse, 300 NE First Ave, Miami, FL

Mandatory Source of Supply: Goodwill Industries of South Florida, Inc., Miami, FL

Contracting Activity: Public Buildings Service, Acquisition Division/Services Branch

Service Type: Janitorial/Custodial Service

Mandatory for: 183rd Fighter Wing Air National Guard Capitol Airport, 3101 J. David Jones Parkway, Springfield, IL

Mandatory Source of Supply: United Cerebral Palsy of the Land of Lincoln, Springfield, IL

Contracting Activity: Dept of the Army, W7M6 USPFO Activity IL ARNG

Service Type: Laundry Service

Mandatory for: Air National Guard-Sioux City, 2920 Headquarters Avenue, Sioux City, IA

Mandatory Source of Supply: Genesis Development, Jefferson, IA

Contracting Activity: Dept. of the Air Force, FA7014 AFDW PK

Service Type: Food Service

Mandatory for: Volk Field Air National Guard, 100 Independence Drive, Camp Douglas, WI

Mandatory Source of Supply: Challenge Unlimited, Inc., Alton, IL

Contracting Activity: Dept. of the Air Force, FA7014 AFDW PK

Service Type: Grounds Maintenance Service

Mandatory for: 130th Airlift Squadron, 1679 Coonskin Dr., Unit #36, Charleston, WV

Mandatory Source of Supply: Goodwill Industries of Kanawha Valley, Charleston, WV

Contracting Activity: Dept. of the Army, W7N7 USPFO ACTIVITY WV ARNG

Service Type: Grounds Maintenance Service

Mandatory for: Admiral Bakerfield Army Reserve Center, San Diego, CA

Mandatory Source of Supply: Job Options, Inc., San Diego, CA

Contracting Activity: Dept. of the Navy, U.S. Fleet Forces Command

Amy Jensen,
Director, Business Operations.

[FR Doc. 2018-12386 Filed 6-7-18; 8:45 am]

BILLING CODE 6353-01-P